DEPARTMENT OF COMMERCE

International Trade Administration

[A-475-059]

Pressure Sensitive Plastic Tape From Italy: Final Results of Expedited Sunset Review

AGENCY: Import Administration, International Trade Administration, Department of Commerce.

SUMMARY: On May 1, 2009, the Department of Commerce (the Department) initiated a sunset review of the antidumping duty finding on pressure sensitive plastic tape (PSP Tape) from Italy pursuant to section 751(c) of the Tariff Act of 1930, as amended (the Act). The Department conducted an expedited (120-day) sunset review of this finding. As a result of this sunset review, the Department finds that revocation of the antidumping duty finding would be likely to lead to continuation or recurrence of dumping. The dumping margins are identified in the Final Results of Review section of this notice.

DATES: Effective Date: August 13, 2009.

FOR FURTHER INFORMATION CONTACT: Terre Keaton Stefanova or Brandon Farlander, AD/CVD Operations, Import Administration, International Trade Administration, U.S. Department of Commerce, 14th Street & Constitution Avenue, NW., Washington, DC 20230; telephone: (202) 482-1280 or (202) 482-0182, respectively.

SUPPLEMENTARY INFORMATION:

Background

On May 1, 2009, the Department published the notice of initiation of the sunset review of the antidumping duty finding on PSP Tape from Italy pursuant to section 751(c) of the Act. See Initiation of Five-Year Sunset Review, 74 FR 20286 (May 1, 2009). The Department received a Notice of Intent to Participate on behalf of 3M Company (3M), a domestic producer of PSP Tape, within the deadline specified in 19 CFR 351.218(d)(1)(i). 3M claimed interested party status, under section 771(9)(C) of the Act, as a producer of a domestic like product in the United States. We received a complete substantive response from 3M within the 30-day deadline specified in 19 CFR 351.218(d)(3)(i). The Department did not receive substantive responses from respondent interested parties. As a result, pursuant to section 751(c)(3)(B) of the Act and 19 CFR 351.218(e)(1)(ii)(C)(2), the Department conducted an expedited (120-day) sunset review of this finding.

Scope of Review

The products covered in this review are shipments of PSP Tape measuring over one and three-eighths inches in width and not exceeding four millimeters in thickness. The above described PSP Tape is classified under Harmonized Tariff Schedule of the United States (HTSUS) subheadings 3919.90.20 and 3919.90.50. The HTS subheadings are provided for convenience and for customs purposes. The written description remains dispositive.

Analysis of Comments Received

All issues raised in this review are addressed in the “Issues and Decision Memorandum for the Final Results of the Expedited Sunset Review of the Antidumping Duty Finding on Pressure Sensitive Plastic Tape from Italy” (Decision Memo), which is hereby adopted by this notice. The issues discussed in the Decision Memo include the likelihood of continuation or recurrence of dumping and the magnitude of the margins likely to prevail if the finding were to be revoked. Parties can find a complete discussion of all issues raised in this review and the corresponding recommendations in this public memorandum which is on file in the Central Records Unit, room 1117 of the main Commerce building.

In addition, a complete version of the Decision Memo can be accessed directly on the Web at http://ia.ita.doc.gov/frn/index.html. The paper copy and electronic version of the Decision Memo are identical in content.

Final Results of Review

The Department determines that revocation of the antidumping duty finding on PSP Tape from Italy would be likely to lead to continuation or recurrence of dumping at the following weighted-average percentage margins:

Manufacturers/exporters/producers | Weighted-average margin (percent)
Comet SARA, S.p.A | 10
Tyco Adhesives Italia S.p.A ¹ | 10
All Others | 10
¹ Tyco Adhesives Italia S.p.A is the successor-in-interest to Manuli Tapes S.p.A.

This notice also serves as the only reminder to parties subject to administrative protective orders (APO) of their responsibility concerning the return or destruction of proprietary information disclosed under APO in accordance with 19 CFR 351.305. Timely notification of the return or destruction of APO materials or conversion to judicial protective orders is hereby requested. Failure to comply with the regulations and terms of an APO is a violation which is subject to sanction.

The Department is issuing and publishing the results and notice in accordance with sections 751(c), 752, and 777(i)(1) of the Act.

Dated: August 7, 2009.
Ronald K. Lorentzen,
Acting Assistant Secretary for Import Administration.

[FR Doc. E9-19430 Filed 8-12-09; 8:45 am]

BILLING CODE 3510-DS-P